DEPARTMENT OF THE INTERIOR

National Park Service

National Register of Historic Places; Notification of Pending Nominations and Related Actions

Nominations for the following properties being considered for listing or related actions in the National Register were received by the National Park Service before April 8, 2006. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St., NW., 8th floor, Washington, DC 20005; or by fax, 202-371-6447. Written or faxed comments should be submitted by May 11, 2006.

John W. Roberts,
Acting Chief, National Register/National Historic Landmarks Program.

KANSAS

Atchison County

Bolman, George T. and Minnie Searles, House, 418 N. 4th St., Atchison, 06000385

Braun, Henry, House, 1307 Division St., Atchison, 06000387

Edmiston, James M., House, 311 S. 7th St., Atchison, 06000386

Horan, Michael J. and Mattie, House, 822 N. 4th St., Atchison, 06000384

Waggener, Balie P., House, 415 W. Riley St., Atchison, 06000388

Johnson County

Loomis Historic District, 8325 Johnson Dr., 5900 Hadley, 5923 Hadley, Merriam, 06000390

Sedgwick County

Ellis—Singleton Building, 221 S. Broadway, Wichita, 06000389

Stafford County

Farmers National Bank, 100 N. Main, Stafford, 06000392

Larabee, Nora E., Memorial Library, 108 N. Union St., Stafford, 06000391

Trego County

Wilcox School—District 29, (Public Schools of Kansas MPS) Rural Route —15 mi. S. of WaKeeney on KS 283, Ransom, 06000393

MAINE

Cumberland County

Everett Chambers, 47-55 Oak St., Portland, 06000397

Kennebec County

Grant, William F., House, 869 Main St., North Vassalboro, 06000396

Moody Mansion, ME 194, across from the jct. with Hanley Rd., Pittston, 6000394

Washington County

Devils Head Site, Address Restricted, Calais, 06000395

MASSACHUSETTS

Middlesex County

West School, 106 Bedford St., Burlington, 06000398

Worcester County

Aldrich, Nathan C., House and Resthaven Chapel, 111 Providence St., Mendon, 06000399

Indian Cemetery, Old, 50 Cottage St., West Brookfield, 06000400

West Brookfield Center Historic District (Boundary Increase), Central, Milk, Mechanic, Sherman, Front and Ware Sts., Long Hill, Old Long Hill Rd., Railroad, Freight House Aves., West Brookfield, 06000401

MICHIGAN

Bay County

Elm Lawn Cemetery, 300 Ridge Rd., Bay City, 06000404

Oakland County

Hilzinger Block, 106-110 S. Main St., Royal Oak, 06000403

Washtenaw County

Goss, Arnold and Gertrude, House, 3215 W. Dobson Place, Ann Arbor, 06000402

Wayne County

Annapolis Park Historic District, Julius, Matthew, Hanover, Farnum, Alan, and Paul, Westland, 06000405

OREGON

Multnomah County

Mallory Hotel, 729 SW. 15th Ave., Portland, 06000406

VIRGINIA

Albemarle County

Estes Farm, 6185 Estes Ln., Dyke, 06000409

Halifax County

Cove, The, 5059 Cove Rd., Harrisburg, 06000407

Loudoun County

Myrtle Hall Farm, 19305 Ridgeside Rd., Bluemont, 06000408

A request for a MOVE has been made for the following resource:

MINNESOTA

Sherburne County

Fox, Herbert M., House U.S. 10 NW. of Becker Becker vicinity, 80002175

[FR Doc. E6-6209 Filed 4-25-06; 8:45 am]

BILLING CODE 4312-51-P